DEPARTMENT OF ENERGY

Federal Energy Regulatory Commission

[Docket No. RM15-23-000]

Collection of Connected Entity Data From Regional Transmission Organizations and Independent System Operators

Supplemental Notice of Technical Conference

As announced in the Notice of Technical Conference issued on November 13, 2015, Commission staff will hold a technical conference on Tuesday, December 8, 2015, from 10:00 a.m. to 1:00 p.m. to discuss issues relating to the Notice of Proposed Rulemaking on the Collection of Connected Entity Data from Regional Transmission Organizations and Independent System Operators (NOPR) that the Commission issued on September 17, 2015. The agenda for this conference is attached. One or more of the Commissioners may attend the conference. All interested persons are invited to attend.

As noted in the initial Notice, staff will be accepting written questions related to the NOPR prior to technical conference. Any questions should be emailed to CENOPR@ferc.gov no later than December 1, 2015.

The technical conference will be webcast, but will not be transcribed. The free webcast will allow persons to listen to the technical conference, but not participate. Anyone with internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100. The webcast will be available on the Calendar of Events on the Commission's Web site www.ferc.gov for three months after the conference.

The conference is open to the public. Pre-registration through the Commission's Web site (https://www.ferc.gov/whats-new/registration/12-08-15-form.asp) is encouraged but not required. Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact Kathryn Kuhlen, 202-502-6855, Kathryn.Kuhlen@ferc.gov; Jamie Marcos, 202-502-6628, Jamie.Marcos@ferc.gov; or David Pierce, 202-502-6454, David.Pierce@ferc.gov. For logistical information about this technical conference, please contact Sarah McKinley, 202-502-8368, sarah.mckinley@ferc.gov.

Dated: November 30, 2015.
Nathaniel J. Davis, Sr.,
Deputy Secretary.

[FR Doc. 2015-30708 Filed 12-4-15; 8:45 am]

BILLING CODE 6717-01-P